DEPARTMENT OF COMMERCE

International Trade Administration

[A-570-815]

Sulfanilic Acid From the People's Republic of China; Notice of Extension of Time Limit for Antidumping Administrative Review

AGENCY: Import Administration, International Trade Administration, Department of Commerce.

EFFECTIVE DATE: May 3, 2001.

SUMMARY: The Department of Commerce (the Department) is extending the time limit for the preliminary results of the administrative review of the antidumping duty order on sulfanilic acid from the People's Republic of China. The review covers the period August 1, 1999 through July 31, 2000.

FOR FURTHER INFORMATION CONTACT: Sean Carey or Samantha Denenberg, AD/CVD Enforcement Office 7, Import Administration, International Trade Administration, U.S. Department of Commerce, 14th Street and Constitution Avenue, NW., Washington, DC 20230, telephone: (202) 482-3964 or (202) 482-1386, respectively.

Postponement of Preliminary Results of Review

On October 2, 2000, the Department published a notice of initiation of an administrative review of the antidumping duty order on sulfanilic acid from the People's Republic of China, covering the period August 1, 1999 through July 31, 2000 (65 FR 58733). The preliminary results are currently due no later than May 3, 2001.

Section 751(a)(3)(A) of the Tariff Act, as amended (the Act), requires the Department to issue its preliminary results within 245 days after the last day of the anniversary month of an order/finding for which a review is requested. However, if it is not practicable to complete the preliminary results within this time period, section 751(a)(3)(A) of the Act allows the Department to extend the time limit for a preliminary determination to a maximum of 365 days.

We determine that it is not practicable to complete the preliminary results of this review within the original time limit. Therefore, the Department is extending the time limit for completion of the preliminary results to no later than August 31, 2001. See Memorandum from Barbara E. Tillman to Joseph A. Spetrini, dated April 26, 2001, which is on file in the Central Records Unit, Room B-099 of the main Commerce Building. This extension is in accordance with section 751(a)(3)(A) of the Act.

Dated: April 27, 2001.
Richard O. Weible,
Acting Deputy Assistant Secretary, AD/CVD Enforcement Group III.

[FR Doc. 01-11151 Filed 5-2-01; 8:45 am]

BILLING CODE 3510-DS-P